NUCLEAR REGULATORY COMMISSION

[Docket Nos. 50-280 and 50-281]

Virginia Electric and Power Company; Surry Power Station, Unit Nos. 1 and 2; Notice of Withdrawal of Application for Amendment to Facility Operating Licenses

The U.S. Nuclear Regulatory Commission (the Commission) has granted the request of Virginia Electric and Power Company (the licensee) to withdraw its February 14, 2006, application for proposed amendment to Facility Operating License Nos. DPR-32 and DPR-37 for the Surry Power Station, Unit Nos. 1 and 2 (Surry 1 and 2), located in Surry County, Virginia.

The proposed amendments would have revised the Technical Specifications (TSs) pertaining to restricting the minimum cooling time and burnup of spent fuel assemblies that will be placed into storage in the NUHOMS HD spent fuel dry storage system at Surry 1 and 2 starting in the summer of 2006. Specifically, the proposed amendments would add Figure 5.4-2 to the TSs to ensure that the NUHOMS HD canister remains subcritical during operations in the Surry 1 and 2 spent fuel pool.

The Commission had previously issued a Notice of Consideration of Issuance of Amendments published in the Federal Register on May 16, 2006 (71 FR 28390). However, by letter dated March 12, 2007, the licensee withdrew the proposed change.

For further details with respect to this action, see the application for amendments dated February 14, 2006, and the licensee's letter dated March 12, 2007, which withdrew the application for license amendments. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 16th day of March 2007.
For the Nuclear Regulatory Commission.
Siva P. Lingam,
Project Manager, Plant Licensing Branch II-1, Division of Operating Reactor Licensing, Office of Nuclear Reactor Regulation.

[FR Doc. E7-5340 Filed 3-22-07; 8:45 am]

BILLING CODE 7590-01-P